DEPARTMENT OF HEALTH AND HUMAN SERVICES

Substance Abuse and Mental Health Services Administration

Fiscal Year (FY) 2023 Notice of Supplemental Funding Opportunity

AGENCY: Substance Abuse and Mental Health Services Administration, Department of Health and Human Services (HHS).

ACTION: Notice of intent to award supplemental funding.

SUMMARY: This notice is to inform the public that the Substance Abuse and Mental Health Services Administration (SAMHSA) is supporting a supplement in scope of the original award for the one grant recipient, the Community Anti-Drug Coalitions of America (CADCA), funded in FY 2019 under the National Anti-Drug Coalitions Training and Workforce Development award, Notice of Funding Opportunity (NOFO) SP-19-002. The recipient may receive up to $175,000 and the project period will be extended by 12 months until November 30, 2024. The supplemental funding to CADCA will be used to continue the Voices of Youth Training Initiative. The Voices of Youth Training Initiative has shown positive results, and the continuation of the program will support finalizing the sustainability and scalability beyond the supplements. The supplement will continue to connect the Future Health Professionals (HOSA) national student organization with CADCA to support youth-led strategic planning for the prevention field and develop leadership skills for the future workforce. This supplement will also allow CADCA to provide HOSA students an opportunity to both learn about and provide valuable input into strategic initiatives for prevention.

FOR FURTHER INFORMATION CONTACT: David Wilson, Substance Abuse and Mental Health Services Administration, 5600 Fishers Lane, Rockville, MD 20857, telephone (240) 276-2558; email: david.wilson@samhsa.hhs.gov.

SUPPLEMENTARY INFORMATION:

Funding Opportunity Title: FY 2019 National Anti-Drug Coalitions Training and Workforce Development Grant SP-19-002.

Assistance Listing Number: 93.243.

Authority: Section 516 of the Public Health Services Act, as amended.

Justification: The purpose of the National Anti-Drug Coalitions Training and Workforce Development grant program is to provide education, training, and technical assistance for coalition leaders and community teams, with an emphasis on the development of coalitions serving economically disadvantaged areas. The program disseminates evaluation tools, mechanisms, and measures to better assess and document coalition performance measures and outcomes and bridge the gap between research and practice by translating knowledge from research into practical application. Eligibility for this supplemental funding is limited to the FY 2019 National Anti-Drug Coalitions Training and Workforce Development recipient, CADCA. CADCA has special expertise providing training and workforce development for thousands of members of community coalitions dedicated to preventing substance use. This organization is uniquely positioned to train youth in community-focused prevention activities being funded through this supplement.

This is not a formal request for application. Assistance will only be provided to the National Anti-Drug Coalitions Training and Workforce Development grant recipient funded in FY 2019 under the National Anti-Drug Coalitions Training and Workforce Development Cooperative Agreement SP-19-002 based on the receipt of a satisfactory application and associated budget that is approved by a review group.

Dated: May 15, 2023.
Ann Ferrero,
Public Health Analyst.

[FR Doc. 2023-10632 Filed 5-17-23; 8:45 am]

BILLING CODE 4162-20-P